DEPARTMENT OF TRANSPORTATION

Maritime Administration

U.S. Merchant Marine Academy Board of Visitors Meeting

AGENCY: Maritime Administration, Department of Transportation.

ACTION: Meeting notice.

SUMMARY: Under the provisions of the Federal Advisory Committee Act of 1972 (5 U.S.C., Appendix, as amended), the Government in Sunshine Act of 1976 (5 U.S.C. 552b, as amended) and 41 CFR part 102-3.150, the U.S. Department of Transportation, Maritime Administration (MARAD) announces that the following U.S. Merchant Marine Academy (“Academy”) Board of Visitors (BOV) meeting will take place:

1. Date: July 30, 2015.

2. Time: 10:00 a.m.

3. Location: Capital Visitors Center, Washington, DC Room to be determined.

4. Purpose of the Meeting: The purpose of this meeting is to brief BOV members on the Academy Advisory Board's annual report to the Secretary of Transportation.

5. Public Access to the Meeting: Pursuant to the Federal Advisory Committee Act (5 U.S.C. 552b and 41 CFR parts 102-3.140 through 102-3.165) and the availability of space, this meeting is open to the public. Seating is on a first-come basis. Members of the public wishing to attend the meeting will need to show photo identification in order to gain access to the meeting location.

FOR FURTHER INFORMATION CONTACT: The BOV's Designated Federal Officer or Point of Contact Brian Blower; 202 366-2765; Brian.Blower@dot.gov.

SUPPLEMENTARY INFORMATION: Any member of the public is permitted to file a written statement with the Academy BOV. Written statements should be sent to the Designated Federal Officer at: Brian Blower; 1200 New Jersey Ave. SE., W28-313, Washington, DC, 20590 or via email at Brian.Blower@Dot.gov. (Please contact the Designated Federal Officer for information on submitting comments via fax.) Written statements must be received no later than three working days prior to the next meeting in order to provide time for member consideration. By rule, no member of the public attending open meetings will be allowed to present questions from the floor or speak to any issue under consideration by the BOV.

Authority: 46 U.S.C. 51312; 5 U.S.C. app. 552b; 41 CFR parts 102-3.140 through 102-3.165.

By Order of the Maritime Administrator.
Dated: July 16, 2015.
T. Mitchell Hudson, Jr.,
Secretary, Maritime Administration.

[FR Doc. 2015-17821 Filed 7-20-15; 8:45 am]

BILLING CODE 4910-81-P